DEPARTMENT OF HEALTH AND HUMAN SERVICES

Draft Report on Guidelines for Ensuring and Maximizing the Quality, Objectivity, Utility and Integrity of Information Disseminated by HHS Agencies

AGENCY: Department of Health and Human Services.

ACTION: Notice.

SUMMARY: This notice announces the availability for comment of the U.S. Department of Health and Human Services Draft Agency Guidelines for Ensuring the Quality of Information Disseminated to the Public. The HHS Draft Agency Guidelines have been developed pursuant to the government-wide OMB Guidelines for Information Quality published on January 3, 2002. Comments are invited on the HHS draft guidelines, which are now available for review and comment at the following HHS Web site: http://www.hhs.gov/infoquality

DATES: Comments on the HHS draft agency guidelines must be submitted by 5 p.m., May 31, 2002.

ADDRESSES: Please submit written comments to Director, Division of Data Policy, Office of the Assistant Secretary for Planning and Evaluation, Attn: Information Quality Comments, U.S. Department of Health and Human Services, Room 440D, Hubert H. Humphrey Building, 200 Independence Avenue SW., Washington, DC 20201. Comments also may be e-mailed to Info.comments@hhs.gov. Single copies of the draft report are also available by contacting the Division of Data Policy at (202) 690-7100.

FOR FURTHER INFORMATION CONTACT: James Scanlon, Division of Data Policy, Office of the Assistant Secretary for Planning and Evaluation, U.S. DHHS, Telephone (202) 690-7100.

SUPPLEMENTARY INFORMATION: On January 3, 2002, OMB issued final guidelines to federal agencies that implement Section 515 of the Treasury and General Government Appropriations Act for Fiscal Year 2001 (Pub. L. 106-554). Section 515 directs OMB to issue government-wide guidelines that provide policy and procedural guidance to federal agencies for ensuring and maximizing the quality, objectivity, utility and integrity of information (including statistical information) disseminated by federal agencies. The OMB guidelines in turn direct each federal agency to issue its own guidelines for ensuring the quality, objectivity, utility and integrity of the information it disseminates to the public, including administrative mechanisms allowing affected persons to seek and obtain, where appropriate, correction of information disseminated by the agency that does not comply with the guidelines. The agency's guidelines will apply to information that the agency first disseminates on or after October 1, 2002.

The OMB Guidelines further direct federal agencies to prepare a draft report, no later than May 1, 2002, providing the agency's information quality guidelines and describing the administrative mechanisms developed by the agency to allow affected persons to seek and obtain appropriate correction of information. The agency also is directed to publish a notice of the availability of this draft report in the Federal Register, and post this report on the agency's Web site to provide an opportunity for public comment.

HHS Draft Agency Guidelines

In accordance with the requirements of the OMB Guidelines, the HHS draft report on agency guidelines is now available for review and comment at the following HHS Web site: http://www.hhs.gov/infoquality.

Within HHS, we have developed draft guidelines for each of the HHS Operating Agencies and Staff Offices that disseminate substantive information subject to the OMB guidelines. Our HHS draft report includes an HHS overview and summary followed by agency specific information quality guidelines. For each operating agency identified below, our draft report describes the following information—the mission of the agency, the scope and applicability of the guidelines within the agency, the types of information that the agency disseminates to the public, the types of dissemination methods employed, the agency quality assurance procedures, and the agency administrative mechanisms to allow affected persons to seek correction of agency information.

A. Administration for Children and Families

B. Administration on Aging

C. Agency for Healthcare Research and Quality

D. Centers for Disease Control and Prevention/Agency for Toxic Substances & Disease Registry

E. Centers for Medicare and Medicaid Services

F. Food and Drug Administration

G. Health Resources and Services Administration

H. Indian Health service

I. National Institutes of Health

J. Substance Abuse and Mental Health Services Administration

K. Office of the Secretary

1. Office of the Assistant Secretary for Planning and Evaluation

2. Office of Public Health and Science

3. Office of the Inspector General

Comments Invited

Comments on the draft report are invited and must be submitted in writing to the office and email addresses specified. Because of staff and resource limitations, we cannot respond to individual comments.

Dated: April 24, 2002.
William Raub,
Deputy Assistant Secretary for Planning and Evaluation.

[FR Doc. 02-10553 Filed 4-30-02; 8:45 am]

BILLING CODE 4151-05-P